DEPARTMENT OF HEALTH AND HUMAN SERVICES

National Institutes of Health

Submission for OMB Review; 30-Day Comment Request; Palliative Care: Conversations Matter® Phase Two Evaluation (National Institute of Nursing Research)

AGENCY: National Institutes of Health, Department of Health and Human Services.

ACTION: Notice.

SUMMARY: In compliance with the Paperwork Reduction Act of 1995, the National Institutes of Health (NIH) has submitted to the Office of Management and Budget (OMB) a request for review and approval of the information collection listed below. This proposed information collection was previously published in the Federal Register on July 12, 2016, page 45169 (81 FR 45169) and allowed 60 days for public comment. No public comments were received. The purpose of this notice is to allow an additional 30 days for public comment.

DATES: Comments regarding this information collection are best assured of having their full effect if received within 30 days of the date of this publication.

ADDRESSES: Written comments and/or suggestions regarding the item(s) contained in this notice, especially regarding the estimated public burden and associated response time, should be directed to the: Office of Management and Budget, Office of Regulatory Affairs, OIRA_submission@omb.eop.gov or by fax to (202) 395-6974, Attention: Desk Officer for NIH.

FOR FURTHER INFORMATION CONTACT: To request more information on the proposed project or to obtain a copy of the data collection plans and instruments, contact: Ms. Diana Finegold, Office of Communications and Public Liaison, NINR, NIH, Building 31, Suite 5B03, 31 Center Drive, Bethesda, MD 20892, or call non-toll-free number (301) 496-0209, or Email your request, including your address to: Diana.Finegold@nih.gov.

SUPPLEMENTARY INFORMATION: The National Institute of Nursing Research (NINR), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Palliative Care: Conversations Matter® Phase Two Evaluation, 0925-0683, National Institute of Nursing Research (NINR), National Institutes of Health (NIH).

Need and Use of Information Collection: The NINR Palliative Care: Conversations Matter® initiative, which launched in FY 2014, is now in its second phase. The first phase was focused on providing materials and tools to assist health care providers in having sometimes difficult conversations with children and families about palliative care. The second phase of the campaign, launched in FY 2015, focuses on children, parents, and families. The Palliative Care: Conversations Matter® Phase Two evaluation will assess the information and materials being disseminated to children, parents, and families. Survey findings will help (1) determine if the campaign is effective, relevant, and useful to the families and caregivers of children living with serious illnesses; (2) to better understand the information needs of families and caregivers to inform future campaign efforts; and (3) examine how effective the campaign materials are in providing families and caregivers with information on palliative care.

OMB approval is requested for 3 years. There are no costs to respondents other than their time. The total estimated annualized burden hours are 371 hours.

Table A-12-1—Estimated Annualized Burden Hours
Form name | Type of respondents | Number of respondents | Number of responses per respondent | Average burden per response (in hours) | Total annual burden hours
Screener | Parents and Caregivers | 10,000 | 1 | 2/60 | 333
Main Survey | Parents and Caregivers of Children with Serious Illnesses—Completes | 150 | 1 | 15/60 | 38
Total |  | 10,150 | 10,150 |  | 371

Dated: September 13, 2016.
Diana Finegold,
Project Clearance Liaison, NINR, NIH.

[FR Doc. 2016-22998 Filed 9-22-16; 8:45 am]

BILLING CODE 4140-01-P